COMMISSION ON CIVIL RIGHTS

Notice of Public Meetings of the Colorado Advisory Committee to the U.S. Commission on Civil Rights

AGENCY: Commission on Civil Rights.

ACTION: Announcement of meetings.

SUMMARY: Notice is hereby given, pursuant to the provisions of the rules and regulations of the U.S. Commission on Civil Rights (Commission), and the Federal Advisory Committee Act (FACA), that the Colorado Advisory Committee to the Commission will hold public meetings via Zoom. The purpose of these meetings is to review sections of their report examining antisemitism on college campuses.

DATES:

• Wednesday, December 17, 2025; 3:00 p.m. Mountain Time.

• Wednesday, January 21, 2026; 3:00 p.m. Mountain Time.

ADDRESSES:

For Both Dates: The meetings will be held via Zoom.

Registration Link for both dates (Audio/Visual): https://www.zoomgov.com/webinar/register/WN_TLZcgxydR5yEPUSS-dJ_w.

Join by Phone (Audio Only): (833) 435-1820 USA Toll Free; Webinar ID: 161 262 7062 #.

Agendas:

• December 17, 2025 and January 21, 2026: (note: final meeting agendas will be available prior to the meeting date).

FOR FURTHER INFORMATION CONTACT: Ana Fortes, Designated Federal Officer at afortes@usccr.gov, or 202-681-0857.

SUPPLEMENTARY INFORMATION: These virtual committee meetings are available to the public through the registration link above. Any interested member of the public may join at the link to listen to these meetings. An open comment period will be provided to allow members of the public to make a statement as time allows. Pursuant to the Federal Advisory Committee Act, public minutes of meetings will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the Zoom meeting platform. To request additional accommodations, please email ebohor@usccr.gov at least 10 business days prior to each meeting.

Members of the public are entitled to submit written comments; the comments must be received in the regional office within 30 days following the meeting. Written comments may be emailed to Evelyn Bohor, ebohor@usccr.gov. Persons who desire additional information may contact the Regional Programs Coordination Unit at (202) 809-9618.

Records generated from this meeting may be inspected and reproduced at the Regional Programs Coordination Unit Office, as they become available, both before and after meetings. Records of the meetings will be available via the file sharing website: https://usccr.box.com/s/quws58omiopsh2jdwca3bjmz8ahtmpe1 as well as at: www.facadatabase.gov under the Commission on Civil Rights, selecting the Advisory Committee of interest. Persons interested in the work of this Committee are directed to the Commission's website, http://www.usccr.gov, or may contact the Regional Programs Coordination Unit at ebohor@usccr.gov.

Dated: November 24, 2025.
David Mussatt,
Supervisory Chief, Regional Programs Unit.

[FR Doc. 2025-21299 Filed 11-25-25; 8:45 am]

BILLING CODE P